SURFACE TRANSPORTATION BOARD

[Docket No. FD 36182]

North Central Mississippi Regional Railroad Authority—Acquisition and Operation Exemption—Mississippi Department of Transportation

North Central Mississippi Regional Railroad Authority (NCMRRA), a noncarrier, has filed a verified notice of exemption under 49 CFR 1150.31 to acquire and operate a 21.70-mile rail line owned by the Mississippi Department of Transportation (MSDOT) that extends from milepost H-0.20 (at Aberdeen Junction) to milepost H-21.90 (at Kosciusko), in Holmes and Attala Counties, Miss. (Kosciusko Line).¹

¹ NCMRRA states that MSDOT purchased the rail line previously owned by Illinois Central Railroad Company (IC), by filing an offer of financial assistance after IC filed for authority to abandon the rail line. See Ill. Cent. R.R.—Aban.—Between Aberdeen Junction & Kosciusko, in Holmes & Attala Ctys., Miss., AB 43 (Sub-No. 163) (STB served Apr. 17, 1997).

NCMRRA states that it will become a rail carrier through this acquisition. The transaction is related to a petition for exemption in North Central Mississippi Regional Railroad Authority & Grenada Railway—Continuance in Control Exemption, Docket No. FD 36234, in which NCMRRA seeks to continue in control of Grenada Railway, LLC (GRYR), a Class III carrier owned and controlled by NCMRRA, once NCMRRA becomes a rail carrier.²

² NCMRRA and GRYR initially sought authorization for NCMRRA to continue in control of both rail carriers pursuant to a verified notice of exemption under 49 CFR 1180.2(d)(3) for a transaction within a corporate family. See N. Cent. Miss. Reg'l R.R. Auth.—Acquis. & Operation Exemption—Miss. Dep't of Transp. (October 12 Decision), FD 36182 et al. (STB served Oct. 12, 2018). In the October 12 Decision, the Board rejected the corporate family exemption as an inappropriate mechanism for obtaining the requisite continuance in control authority and directed NCMRRA to file a petition for exemption if it wished to do so. The notice of exemption in this proceeding was held in abeyance and its effective date postponed until further Board order.

NCMRRA filed a petition for a continuance in control exemption on October 19, 2018. The Board is serving a decision today granting that petition. See N. Cent. Miss. Reg'l R.R. Auth.—Continuance in Control Exemption, FD 36234 (STB served Nov. 20, 2018). That decision also takes this proceeding out of abeyance. Id.

NCMRRA states that it has reached an agreement with MSDOT for NCMRRA to acquire and operate the Kosciusko Line upon the effective date established by the Board. NCMRRA states that the transaction does not include any interchange commitments that prohibit NCMRRA from interchanging traffic with a third party or limit NCMRRA's ability to interchange with a third party.

NCMRRA certifies that its projected annual revenues will not exceed those that would qualify it as a Class III carrier and that the projected annual revenues of NCMRRA will not exceed $5 million as a result of this transaction. The transaction may be consummated on or after December 4, 2018, the effective date of the exemption, consistent with the timetable specified in 49 CFR 1150.32(b).

If the verified notice contains false or misleading information, the exemption is void ab initio. Petitions to revoke the exemption under 49 U.S.C. 10502(d) may be filed at any time. The filing of a petition to revoke will not automatically stay the effectiveness of the exemption. Petitions for stay must be filed no later than November 27, 2018. An original and 10 copies of all pleadings, referring to Docket No. FD 36182, must be filed with the Surface Transportation Board, 395 E Street SW, Washington, DC 20423-0001. In addition, one copy of each pleading must be served on William A. Mullins, Baker & Miller PLLC, 2401 Pennsylvania Avenue NW, Suite 300, Washington, DC 20037.

According to NCMRRA, this action is categorically excluded from environmental review under 49 CFR 1105.6(c) and from historic reporting requirements under 49 CFR 1105.8(b)(1).

Board decisions and notices are available on our website at www.stb.gov.

Decided: November 15, 2018.
By the Board, Scott M. Zimmerman, Acting Director, Office of Proceedings.
Jeffrey Herzig,
Clearance Clerk.

[FR Doc. 2018-25317 Filed 11-19-18; 8:45 am]

BILLING CODE 4915-01-P